DEPARTMENT OF THE INTERIOR

Fish and Wildlife Service

[FWS-R5-R-2010-N018; BAC-4311-K9 S3]

Montezuma National Wildlife Refuge, Seneca, Wayne, and Cayuga Counties, NY

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for Montezuma National Wildlife Refuge (NWR) in Seneca, Wayne, and Cayuga Counties, New York. We provide this notice in compliance with our CCP policy to advise other Federal and State agencies, Tribal Governments, and the public of our intentions, and to obtain suggestions and information on the scope of issues to consider in the planning process. We are also announcing public meetings and requesting public comments.

DATES: To ensure consideration, please send your written comments by June 30, 2010. We will announce opportunities for public input in local news media throughout the CCP process.

ADDRESSES: Send your comments or requests for more information by any of the following methods:

Electronic mail: northeastplanning@fws.gov. Include “Montezuma NWR CCP” in the subject line of the message.

Facsimile: Attention: Nancy McGarigal, 413-253-8468.

U.S. Mail: U.S. Fish and Wildlife Service, 300 Westgate Center Drive, Hadley, MA 01035.

In-Person Drop-off: You may drop off comments during regular business hours at Montezuma NWR, 3395 U.S. Route 20 East, Seneca Falls, NY 13148-9423.

FOR FURTHER INFORMATION CONTACT: Tom Jasikoff, Refuge Manager, Montezuma NWR, 3395 U.S. 20 East, Seneca Falls, NY 13148-9423; phone: (315) 568-5987; electronic mail: tom_jasikoff@fws.gov.

SUPPLEMENTARY INFORMATION:

Introduction

With this notice, we initiate our process for developing a CCP for Montezuma NWR in Seneca, Wayne, and Cayuga Counties, New York. This notice complies with our CCP policy to (1) advise other Federal and State agencies, Tribal Governments, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments, conservation organizations, and the public. At this time, we encourage input in the form of issues, concerns, ideas, and suggestions for the future management of Montezuma NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Montezuma NWR

Montezuma NWR was established as a refuge in 1938 primarily in recognition of its importance as a stopover area for migratory birds and other wildlife. The refuge provides resting, feeding, and nesting habitat for waterfowl and other migratory birds and is located in the middle of one of the most active migratory bird pathways in the Atlantic Flyway. Over 1,000,000 migrating geese and ducks, and one of the largest concentrations of migrating shorebirds in New York, are observed each year. Located at the north end of Cayuga Lake in the Finger Lakes Region of New York, Montezuma NWR consists of 9,073 acres.

Refuge habitats are very diverse. They consist of approximately 4,700 acres of freshwater wetlands in 16 impoundments; 1,646 acres in floodplain forest; 360 acres in cropland; 700 acres in early or mid-successional forest; 584 acres in grassland, 157 acres in canals, river, or dikes, and the remainder in roads, trails and other infrastructure.

Montezuma NWR hosts over 150,000 visitors annually. Popular activities include driving on the 3-mile auto tour, observing and photographing nature on the 5.5 miles of walking trails, and hunting, fishing, or participating in the many educational and interpretive programs. The refuge visitor center, open from April 1 to November 30 each year, is a popular destination for visitors to the area.

Scoping: Preliminary Issues, Concerns, and Opportunities

The planning team is in the process of identifying preliminary issues, concerns, and opportunities to address in the CCP. We list below the categories for issues we have identified. During public scoping, we expect additional issues may be raised.

(1) Ecoregional or ecosystemwide issues, such as climate change, regional land conservation, and the protection of water quality throughout the West Oswego River watershed;

(2) Biological program issues, such as habitat and species management needs, protection, restoration, monitoring, inventories, and research;

(3) Public-use program issues, such as the breadth and quality of programs, public access, user conflicts, and use impacts on natural resources;

(4) Infrastructure and staffing issues, such as appropriateness of facilities, safety, accessibility, and additional staffing needs;

(5) Community relations and outreach issues and opportunities, such as tourism and local economic impacts; and

(6) Coordination and communication issues and opportunities with Federal, State, and Tribal Governments, and with non-governmental conservation partners.

Public Meetings

We will give the public an opportunity to provide input at a public meeting. You can obtain the schedule from the planning team leader or refuge manager (see FOR FURTHER INFORMATION CONTACT). You may also send comments anytime during the planning process by mail, electronic mail, or facsimile (see ADDRESSES). There will be additional opportunities to provide public input once we have prepared a draft CCP.

Public Availability of Comments

Before including your address, phone number, electronic mail address, or other personal identifying information in your comment, you should be aware that your entire comment—including your personal identifying information—may be made publicly available at any time. While you can ask us in your comment to withhold your personal identifying information from public review, we cannot guarantee that we will be able to do so.

Dated: March 26, 2010.
James G. Geiger,
Acting Regional Director, Northeast Region, U.S. Fish and Wildlife Service.

[FR Doc. 2010-10822 Filed 5-6-10; 8:45 am]

BILLING CODE 4310-55-M